DEPARTMENT OF EDUCATION

Notice of Proposed Information Collection Requests

AGENCY: Department of Education.

ACTION: Comment request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Regulatory Information Management Services, Office of Management, invites comments on the proposed information collection requests as required by the Paperwork Reduction Act of 1995.

DATES: Interested persons are invited to submit comments on or before December 27, 2010.

ADDRESSES: Comments regarding burden and/or the collection activity requirements should be electronically mailed to ICDocketMgr@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. Chapter 35) requires that Federal agencies provide interested parties an early opportunity to comment on information collection requests. The Director, Information Collection Clearance Division, Regulatory Information Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: October 20, 2010.
Darrin A. King,
Director, Information Collection Clearance Division, Regulatory Information Management Services, Office of Management.

Institute of Education Sciences

Type of Review: Revision.

Title of Collection: 2011-12 National Postsecondary Student Aid Study (NPSAS:12) Field Test Student Data Collection.

OMB Control Number: 1850-0666.

Agency Form Number(s): N/A.

Frequency of Responses: Annually.

Affected Public: Businesses or other for-profit; Individuals or households; Not-for-profit institutions.

Total Estimated Number of Annual Responses: 4,093.

Total Estimated Number of Annual Burden Hours: 4,256.

Abstract: NPSAS, a nationally representative study of how students and their families finance education beyond high school, was first implemented by the National Center for Education Statistics (NCES) in 1987 and has been fielded every 3 to 4 years since. This submission is for collection of student data in the eighth cycle in the series, NPSAS:12, and supplements the recently obtained approval for NPSAS:12 collection of institutional data (OMB# 1850-0666 v.7). NPSAS:12 will also serve as the base year study for the Beginning Postsecondary Students Longitudinal Study (BPS) of first-time postsecondary students that will focus on issues of persistence, degree attainment, and employment outcome. Following the field test study in 2011, NCES will submit an Office of Management and Budget clearance package for the full scale. The NPSAS:12 field test sample will include about 300 institutions (full-scale sample about 1,670) and about 4,500 students (120,000 full-scale). Institution contacting for the field test begun in September 2010 (for full scale in September 2011), list collection will be conducted January through May 2011 (full-scale January through June 2012), and student data collection will take place March through June 2011 (full scale January through September 2012). Changes since the last NPSAS collection in 2008 include a new cohort of the (BPS) which will conduct follow-up studies in 2014 and 2017, and revised strata for institution sampling to reflect the recent growth in enrollment in for-profit 4-year institutions. This submission requests approval for conducting student interviews, collecting student records, and file matching for NPSAS:12 as part of the 2011 field test and a 60-day Federal Register public notice waiver for the 2012 full-scale study.

Requests for copies of the proposed information collection request may be accessed from http://edicsweb.ed.gov, by selecting the “Browse Pending Collections” link and by clicking on link number 4393. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2010-26908 Filed 10-22-10; 8:45 am]

BILLING CODE 4000-01-P